DEPARTMENT OF JUSTICE

Antitrust Division

Notice Pursuant to the National Cooperative Research and Production Act of 1993—National Warheads and Energetics Consortium (“NWEC”)

Notice is hereby given that, on May 2, 2000, pursuant to Section 6(a) of the National Cooperative Research and Production Act of 1993, 15 U.S.C. § 4301 et seq. (“the Act”), National Warheads and Energetics Consortium (“NWEC”) has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to Section 6(b) of the Act, the identities of the parties are Advanced Technology & Research Corporation, Burtonsville, MD; Aerojet-General Corporation, Sacramento, CA; Allied Signal Federal Manufacturing & Technologies, Kansas City, MO; Armtec Defense Products Company, Coachella, CA; Alliant Missile Products Co LLC, Hopkins, MN; American Ordnance LLC, Iowa Army Ammunition Plant, Middletown, IA; Applied Ordnance Technology, Inc., Waldorf, MD; Business Plus Corporation, Denville, NJ; Battelle, Columbus, OH; Bulova Technologies LLC, Lancaster, PA; CFD Research Corporation, Huntsville, AL; Combustion Propulsion and Ballistic Technology Corporation, State College, PA; Climax Molybedenum Corp., Tempe, AZ; DE Technologies, Inc., King of Prussia, PA; Day & Zimmerman, Inc., Philadelphia, PA; Eaton Associates, LaPorte, IN; Energetic Materials Research and Testing Center, Socorro, NM; Ensign-Bickford Company, Simsbury, CT; Enig Associates, Inc., Silver Spring, MD; Flurochem Inc., Azusa, CA; GEO-CENTERS, Inc., Newton Centre, MA; General Dynamics Armament Systems, Burlington, VT; General Sciences, Inc., Souderton, PA; Highly Filled Materials Institute, Stevens Institute of Technology, Hoboken, NJ; KVA Advanced Technologies, Inc., Carson City, NV; Loki Inc., Rolla, MO; Marconi Aerospace Defense Systems, Inc., Austin, TX; Material Processing & Research, Inc., Hoboken, NJ; M. Bruns Corporation, Alexandria, VA; Mitretek Systems, Inc., McLean, VA; New Jersey Institute of Technology, Newark, NJ; University of Maryland, Department of Mechanical Engineering, College Park, MD; Powdermet, Inc., Sun Valley, CA; Primex Technologies, Inc., St. Petersburg, FL; The Pennsylvania State Univ., Office of Sponsored Programs, University Park, PA; Quantic Industries, Inc., San Carlos, CA; Raytheon Systems Company, Tewksbury, MA; RTF Industries, Marshall, TX; SRI International, Menlo Park, CA; STREASAU Laboratory Inc., Spooner, WI; Talley Defense Systems, Inc., Mesa, AZ; Tanner Research, Inc., Pasadena, CA; Textron Systems Corp., Wilmington, MA; Thermo Power Corp., Waltham, MA; Thiokol Propulsion Group, Brigham City, UT; University of Denver (Colorado Seminary), Denver, CO; Office of Research Services, Rolla, MO; United Defense, LP, Armament Services Division, Minneapolis, MN; and Vertay Technology, Inc., East Amherst, NY. The nature and objectives of the venture are to conduct research and development activities in the area of warheads and energetics technology; to enter into a Section 845 “Other Transactions” Agreement with the US Army for the funding of certain research and development to be conducted, in partnership with the Army and other NWEC Members, for the US Army Warheads and Energetics Technology Center (“WETC”) in the area of warheads and energetics technology; to develop, maintain, and execute a flexible multi-year master research plan in the area of warheads and energetics technology that clearly defines performance goals and maximizes the collective capabilities toward attainment of sound technical solutions consistent with these goals; to provide a unified and coordinated message to the U.S. Government's legislative branch and the Department of Defense community as to the strategically important role warheads and energetics technologies will play in current and future weapons systems development; and to define programs and obtain programs and obtain program funding that is focused on the development, demonstration and transition of key technologies that will result in current weapons system improvements or the fielding of new systems.

Constance K. Robinson,
Director of Operations, Antitrust Division.

[FR Doc. 00-16606 Filed 6-29-00; 8:45 am]

BILLING CODE 4410-11-M